FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 24, 2006.

A. Federal Reserve Bank of Atlanta (Andre Anderson, Vice President) 1000 Peachtree Street, NE., Atlanta, Georgia 30303:

1. J. Autry and Martha Gobbell; Stephen or Jane Ann Gobbell; Stephen Gobbell, as custodian for Stephen Mark Gobbell; PB Bancshares, Inc., ESOP, J. Autry Gobbell, Gailand Grinder; Tommy Martin; Kelvin Runions; Carl Skelton; and Andrew Yarbrough, as trustees; Frances Hassell Wade Trust, J. Autry Gobbell, Martha Gobbell, and Stephen Gobbell, as trustees, all of Clifton, Tennessee; to retain voting shares of PB Bancshares, Inc., and thereby indirectly retain voting shares of Peoples Bank, both of Clifton, Tennessee.

Board of Governors of the Federal Reserve System, April 4, 2006.
Robert deV. Frierson,
Deputy Secretary of the Board.

[FR Doc. E6-5105 Filed 4-6-06; 8:45 am]

BILLING CODE 6210-01-S